DEPARTMENT OF HEALTH AND HUMAN SERVICE

Substance Abuse and Mental Health Services Administration

Fiscal Year (FY) 2023 Notice of Supplemental Funding Opportunity

AGENCY: Substance Abuse and Mental Health Services Administration (SAMHSA), Department of Health and Human Services (HHS).

ACTION: Notice of intent to award supplemental funding to the Suicide Prevention Resource Center (SPRC) recipient funded in FY 2020 under Funding Opportunity Announcement SM-20-011.

SUMMARY: This is a notice of intent to award supplemental funding to the SPRC recipient funded in FY 2020 under Funding Opportunity Announcement SM-20-011. This is to inform the public that the SAMHSA is supporting an administrative supplement up to $5.429 million, which is consistent with the initial award for one-year to the University of Oklahoma Health Sciences Center. This recipient was funded in FY 2020 with a project end date of November 30, 2025. This supplement will provide support to the National Action Alliance for Suicide Prevention to conduct an evaluation project for populations at higher risk of suicide in support of the National Suicide Prevention Lifeline's 988 efforts. Additionally, SPRC will provide training and technical assistance to increase the capacity of existing 988 call centers to help Tribal callers and to build the capacity of Tribal crisis hotline services to qualify to join the 988 network.

This is not a formal request for application. Assistance will only be provided to the Suicide Prevention Resource Center (SPRC) recipient, the University of Oklahoma Health Sciences Center, based on the receipt of a satisfactory application and associated budget that is approved by a review group.

SUPPLEMENTARY INFORMATION: To better inform targeted messaging, SPRC will curate culturally appropriate best-practices to encourage populations at higher risk of suicide to contact 988 (and other crisis support services). This effort began in September 2022 and included six populations at high risk of suicide. This supplemental funding will expand the populations of focus to include other audiences at high risk of suicide, as well as “influencers” identified by respondents, to produce resources that influencers and/or peers can use in their role as trusted messengers. In addition, this will support the inclusion and engagement of more populations at risk, such as Asian Americans and individuals with disabilities. Additionally, to strengthen 988's overall capacity to meet the needs of Tribal communities engaging with 988, SPRC will:

A. Facilitate at least six online training webinars focused on 988 crisis centers building collaborative, sustainable relationships with Tribal nations and communities.

B. Facilitate a virtual community of learning for 988 crisis center directors and Tribal representatives.

C. Provide a spotlight report on the pilot of the Native and Strong Line in Washington.

D. Collaborate with SAMHSA's Mental Health Technology Transfer Centers (MHTTCs) and Tribal Training and Technical Assistance Center to develop an interactive online toolkit/resource guide, providing Tribal behavioral health resource and jurisdictional information by state, that can be used for referrals and linkage.

E. Collaborate with Vibrant to develop interactive online training for 988 crisis center staff to build capacity for culturally responsive and relevant care for Tribal callers in their regions.

F. Provide intensive technical assistance to Tribal 988 response grantees.

G. Foster partnerships among tribes, states, 911 centers, and first responders through direct technical assistance, policy academies, learning communities and state/regional convenings.

H. Coordinate meetings between SAMHSA, SAMHSA's MHTTC Network and Tribal Training and Technical Assistance Center, to provide updates on progress achieved for supplement-related goals and objectives and provide any gaps, challenges, barriers, and trends that have been identified.

Funding Opportunity Title: FY 2020 Suicide Prevention Resource Center SM-20-011.

Assistance Listing Number: 93.243.

Authority: Section 520A and 520C of the Public Health Service Act, as amended.

Justification: Eligibility for this supplemental funding is limited to the University of Oklahoma Health Sciences Center which was funded in FY 2020 under the Suicide Prevention Resource Center Grant. The University of Oklahoma Health Sciences Center has special expertise completing the activities and needs assessments to understand the attitudes, knowledge, and beliefs regarding suicide of various groups and populations.

FOR FURTHER INFORMATION CONTACT: Brandon J. Johnson, Substance Abuse and Mental Health Services Administration, 5600 Fishers Lane, Rockville, MD 20857, telephone (240) 276-1222; email: brandon.johnson1@samhsa.hhs.gov.

Alicia Broadus,
Public Health Advisor.

[FR Doc. 2022-27201 Filed 12-14-22; 8:45 am]

BILLING CODE 4162-20-P